Proclamation 9536 of October 31, 2016

National Family Caregivers Month, 2016

By the President of the United States of America

A Proclamation

Our Nation was founded on the fundamental ideal that we all do better when we look out for one another, and every day, millions of Americans from every walk of life balance their own needs with those of their loved ones as caregivers. During National Family Caregivers Month, we reaffirm our support for those who give of themselves to be there for their family, friends, and neighbors in challenging times, and we pledge to carry forward the progress we have made in our health care system and workplaces to give caregivers the resources and flexibility they need.

Each of us may find ourselves in need of or providing care at some point in our lives. That is why it is imperative that we maintain and expand the Affordable Care Act (ACA). At the time Medicare was created, only a little more than half of all seniors had some form of health insurance. Today, the ACA has given older Americans better care and more access to discounted prescriptions and certain preventive services at no cost. The ACA has also expanded options for home- and community-based services, so that, with the help of devoted, loving caregivers, more Americans are now able to live independently and with dignity. And because looking after an aging family member or a friend with a disability can be challenging, States and local agencies connect individuals with caregiver support groups and respite care. The women and men who put their loved ones before themselves show incredible generosity every day, and we must continue to support them in every task they selflessly carry out.

Many devoted caregivers across our country also attend to members of our Armed Forces when they return home, and my Administration is committed to improving the care and support our veterans and their families receive. For over 5 years, First Lady Michelle Obama and Dr. Jill Biden's Joining Forces initiative has worked to ensure those who look after our service members who come home with the wounds of war—whether they are visible or not—have the community and Government support they need to help their siblings and spouses, parents and children, neighbors and friends through one of the greatest battles they may face: the fight to recover and heal.

This month, and every month, let us lift up all those who work to tirelessly advance the health and wellness of those they love. Let us encourage those who choose to be caregivers and look toward a future where our politics and our policies reflect the selflessness and open-hearted empathy they show their loved ones every day.

NOW, THEREFORE, I, BARACK OBAMA, President of the United States of America, by virtue of the authority vested in me by the Constitution and the laws of the United States, do hereby proclaim November 2016 as National Family Caregivers Month. I encourage all Americans to pay tribute to those who provide for the health and well-being of their family members, friends, and neighbors.

IN WITNESS WHEREOF, I have hereunto set my hand this thirty-first day of October, in the year of our Lord two thousand sixteen, and of the Independence of the United States of America the two hundred and forty-first.

[FR Doc. 2016-26804

Filed 11-2-16; 11:15 am]

Billing code 3295-F7-P